DEPARTMENT OF DEFENSE

United States Marine Corps; Privacy Act of 1974; System of Records

AGENCY: United States Marine Corps, DoD.

ACTION: Notice to delete a system of records.

SUMMARY: The U.S. Marine Corps is deleting a system of records notice from its inventory of records systems subject to the Privacy Act of 1974, as amended (5 U.S.C. 552a).

DATES: Effective July 23, 2007.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records system notices for records systems subject to the Privacy Act of 1974 (5 U.S.C. 552a), as amended, have been published in the Federal Register and are available from the address above.

The U.S. Marine Corps proposes to delete a system of records notices from its inventory of record systems subject to the Privacy Act of 1974 (5 U.S.C. 552a), as amended. The changes to the system of records are not within the purview of subsection (r) of the Privacy Act of 1974 (5 U.S.C. 552a), as amended, which requires the submission of new or altered systems reports.

DATE: July 17, 2007.
L.M. Bynum,
Alternate OSD Federal Register Liaison Officer, Department of Defense.

Deletion

MMC00007

System name:

Inspection of Government Property Assigned to Individual (August 3, 1993, 58 FR 41254).

Reason:

Information is now filed within the Navy's NM07320-1, Property Accountability Records printed in the Federal Register on May 20, 2007, with number of 72 FR29487.

[FR Doc. 07-3557 Filed 7-20-07; 8:45 am]

BILLING CODE 5001-06-M